DEPARTMENT OF DEFENSE

GENERAL SERVICES ADMINISTRATION

NATIONAL AERONAUTICS AND SPACE ADMINISTRATION

[OMB Control No. 9000-0189; Docket 2018-XX; Sequence X]

Submission for OMB Review; Identification of Predecessors

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an extension of a previously approved information collection requirement regarding identification of predecessors.

DATES: Submit comments on or before January 2, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0189, Identification of Predecessors.

Instructions: Please submit comments only and cite Information Collection 9000-0189, Identification of Predecessors, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Federal Acquisition Policy Division, at 202-219-0202 or email cecelia.davis@gsa.gov.

SUPPLEMENTARY INFORMATION:

A. Purpose

The Federal Acquisition Regulation (FAR) provision 52.204-20, Predecessor of Offeror, requires each offeror to identify if the offeror is, within the last three years, a successor to another entity that received a Federal Government award and, if so, to provide the Commercial and Government Entity (CAGE) code and legal name of the predecessor. The information on predecessors is used to identify such entities in the Federal Awardee Performance and Integrity Information System (FAPIIS) to allow retrieval of integrity and performance data on the most recent predecessor of an apparent successful offeror to whom award is anticipated. FAR 9.104-6 requires contracting officers to consult FAPIIS before awarding a contract in excess of the simplified acquisition threshold. The information on predecessors is collected on an annual basis for inclusion in the annual representations and certifications in the System for Award Management (SAM) for offerors required to register in SAM. Offerors not required to register in SAM but required to provide the information in the provision at FAR 52.204-20 will do so as specified in the solicitation or instructed by the contracting officer.

B. Public Comment

A 60 day notice was published in the Federal Register at 83 FR 47342, on September 19, 2018. One comment was received; however, it did not change the estimate of the burden. The commenter supports the information collection requirement as an important step in bringing greater transparency and efficiency to the federal acquisition process.

Comment: The commenter is concerned that offerors are not complying with the information collection requirement and they must be held accountable for their representations and certifications. The commenter suggested that to do so, the government should periodically audit vendor-entered FAPIIS and SAM data quality and address non-compliance through a system of sanctions ranging from warning letters to monetary fines, or through the suspension and debarment process. The commenter also suggested expanding the information collection requirement to include the names of key individuals associated with the offeror company and any past relationships they had with entities that received contracts or grants.

Response: This comment is out of scope because the suggestions made by the commenter would require additional rulemaking. They did not express an opinion on whether the stated number of burden hours is accurate for what they believe to be the actual number of hours an offeror expends to comply with the provision.

C. Annual Reporting Burden

The burden to provide the information required by the FAR provision at 52.204-20 when an offeror is registered in SAM is already covered by OMB Control Number 9000-0159, System for Award Management Registration (SAM). OMB Control Number 9000-0189 now will cover the burden for providing the required information when the offeror is not required to register in SAM in accordance with the exceptions in FAR 4.1102(a). The Federal Procurement Data System (FPDS) for FY 2017 was used to develop the estimated burden hours as shown below:

Respondents: 974.

Responses per Respondent: 1.

Total Annual Responses: 974.

Hours per Response: 0.1.

Total Burden Hours: 97.4.

Affected Public: Businesses or other for-profit and not-for-profit institutions.

Obtaining Copies: Requesters may obtain a copy of the information collection documents from the General Services Administration, Regulatory Secretariat Division (MVCB), 1800 F Street NW, Washington, DC 20405, telephone 202-501-4755. Please cite OMB Control No. 9000-0189, Identification of Predecessors, in all correspondence.

Dated: November 27, 2018.
Janet Fry,
Director, Federal Acquisition Policy Division, Office of Governmentwide Acquisition Policy, Office of Acquisition Policy, Office of Governmentwide Policy.

[FR Doc. 2018-26104 Filed 11-30-18; 8:45 am]

BILLING CODE 6820-EP-P